DEPARTMENT OF THE INTERIOR

Bureau of Land Management

[ID-300-1020-PH]

Notice of Public Meeting, Idaho Falls District Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The meeting will be held June 6-7, 2006 starting at the Soda Springs City Council Chambers, 9 West 2nd South, Soda Springs, Idaho 83276. The meeting will start at 1 p.m. on June 6, with the public comment period as the first agenda item. The second day will conclude at or before 5 p.m. Following the first two hours of the meeting at the Soda Springs City Hall, the rest of the meeting will be conducted as a field tour. Meeting attendees outside of BLM staff and RAC members should provide their own transportation if they wish to participate.

SUPPLEMENTARY INFORMATION: The 15-member Council advises the Secretary of the Interior, through the Bureau of Land Management, on a variety of planning and management issues associated with public land management in the BLM Idaho Falls District (IFD), which covers eastern Idaho. At this meeting, the Advisory Council will receive updates on current IFD and BLM Idaho issues. The field tour for the RAC will be to Blackfoot Reservoir Campground on June 6 and the Simplot Smoky Canyon Mine on June 7.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: David Howell, RAC Coordinator, Idaho Falls District, 1405 Hollipark Dr., Idaho Falls, ID 83401. Telephone (208) 524-7559. E-mail: David_Howell@blm.gov.

Dated: April 26, 2006.
David Howell,
RAC Coordinator, Public Affairs Specialist.

[FR Doc. E6-6585 Filed 5-1-06; 8:45 am]

BILLING CODE 4310-GG-P